DEPARTMENT OF VETERANS AFFAIRS

Enhanced-Use Lease Development of Property at the Department of Veterans Affairs Chicago Health Care System, Chicago (Lakeside), IL

AGENCY: Department of Veterans Affairs

ACTION: Notice of intent to designate.

SUMMARY: The Secretary of the Department of Veterans Affairs (VA) intends to designate real property at VA's Lakeside property in Chicago, Illinois (“Lakeside”), to be leased under an enhanced-use lease (EUL). The Department intends to enter into a long-term (up to 75 years) lease of approximately 3.6 acres of real property with a competitively selected lessee/developer who would finance, design, develop, maintain and manage mixed-use facilities, possibly including such uses as residential, commercial, and medical, all at no cost to VA. VA would use the consideration from the lease to improve services and facilities for veterans in the Chicago area.

FOR FURTHER INFORMATION CONTACT: Brian A. McDaniel, Office of Asset Enterprise Management (004B), Department of Veterans Affairs, 810 Vermont Avenue, NW., Washington, DC 20420, (202) 273-9492.

SUPPLEMENTARY INFORMATION: 38 U.S.C. 8161 et seq., specifically provides that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: September 11, 2003.
Anthony J. Principi,
Secretary of Veterans Affairs.

[FR Doc. 03-24054 Filed 9-18-03; 12:01 pm]

BILLING CODE 8320-01-P